DEPARTMENT OF AGRICULTURE

Animal and Plant Health Inspection Service

7 CFR Part 301

[Docket No. 02-029-2]

Citrus Canker; Removal of Quarantined Area

AGENCY: Animal and Plant Health Inspection Service, USDA.

ACTION: Affirmation of interim rule as final rule.

SUMMARY: We are adopting as a final rule, without change, an interim rule that amended the citrus canker regulations by removing a portion of Manatee County, FL, from the list of quarantined areas. The regulations require that an area be free from citrus canker for a period of at least 2 years before it may be removed from the list of quarantined areas. Surveys have shown that the Duette area of Manatee County, FL, has been free of citrus canker since February 4, 2000. The interim rule removed restrictions on the interstate movement of regulated articles from that portion of Manatee County, FL.

EFFECTIVE DATE: The interim rule became effective on May 8, 2002.

FOR FURTHER INFORMATION CONTACT: Mr. Stephen Poe, Operations Officer, Surveillance and Emergency Programs Planning and Coordination, PPQ, APHIS, 4700 River Road Unit 134, Riverdale, MD 20737-1231; (301) 734-8899.

SUPPLEMENTARY INFORMATION:

Background

In an interim rule effective and published in the Federal Register on May 8, 2002 (67 FR 30769-30771, Docket No. 02-029-1), we amended the citrus canker regulations in 7 CFR part 301 by removing a portion of Manatee County, FL, from the list of quarantined areas in § 301.75-4(a). The regulations require that an area be free from citrus canker for a period of at least 2 years before it may be removed from the list of quarantined areas, and surveys have shown that the 41-square-mile Duette area in eastern Manatee County, FL, has been free of citrus canker since February 4, 2000. Therefore, the interim rule removed restrictions on the interstate movement of regulated articles from that area.

Comments on the interim rule were required to be received on or before July 8, 2002. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, and Transportation.

PART 301—DOMESTIC QUARANTINE NOTICES

Accordingly, we are adopting as a final rule, without change, the interim rule that amended 7 CFR part 301 and that was published at 67 FR 30769-30771 on May 8, 2002.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 7th day of August 2002.
Peter Fernandez,
Acting Administrator, Animal and Plant Health Inspection Service.

[FR Doc. 02-20330 Filed 8-9-02; 8:45 am]

BILLING CODE 3410-34-P